DEPARTMENT OF TRANSPORTATION

Federal Aviation Administration

14 CFR Part 39

[Docket No. FAA-2014-0498; Directorate Identifier 2013-SW-052-AD]

RIN 2120-AA64

Airworthiness Directives; Airbus Helicopters (Previously Eurocopter France) Helicopters

AGENCY: Federal Aviation Administration (FAA), DOT.

ACTION: Notice of proposed rulemaking (NPRM).

SUMMARY: We propose to supersede airworthiness directive (AD) 2010-21-07 for Eurocopter France (now Airbus Helicopters) Model AS350B3 and EC130B4 helicopters. AD 2010-21-07 currently requires inspecting the pilot's and co-pilot's throttle twist for proper operation of the contactors. This proposed AD would retain the requirements of AD 2010-21-07, include additional inspection procedures, and revise the inspection interval. These proposed actions are intended to prevent unintended touchdown during a practice autorotation at a flight-idle power setting, damage to the helicopter, and injury to occupants.

DATES: We must receive comments on this proposed AD by September 29, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the foreign authority's AD, the economic evaluation, any comments received and other information. The street address for the Docket Operations Office (telephone 800-647-5527) is in the ADDRESSES section. Comments will be available in the AD docket shortly after receipt. For service information identified in this proposed AD, contact Airbus Helicopters, Inc., 2701 N. Forum Drive, Grand Prairie, TX 75052; telephone (972) 641-0000 or (800) 232-0323; fax (972) 641-3775; or at http://www.airbushelicopters.com/techpub. You may review service information at the FAA, Office of the Regional Counsel, Southwest Region, 2601 Meacham Blvd., Room 663, Fort Worth, Texas 76137.

FOR FURTHER INFORMATION CONTACT: George Schwab, Aviation Safety Engineer, Safety Management Group, Rotorcraft Directorate, FAA, 2601 Meacham Blvd., Fort Worth, Texas 76137; telephone (817) 222-5110; email george.schwab@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

On September 29, 2010, we issued AD 2010-21-07, Amendment 39-16467 (75 FR 63052, October 14, 2010), for Eurocopter France (now Airbus Helicopters) Model AS350B3 and EC130B4 helicopters with certain equipment installed. AD 2010-21-07 requires repetitively inspecting the pilot's and co-pilot's throttle twist for proper operation of the contactors, which provide for changes between the “IDLE” and “FLIGHT' positions of the throttle twist grip control, by complying with Eurocopter's service information. AD 2010-21-07 was prompted by a dormant failure of one of the two contactors 53Ka or 53Kb following the installation of modification (MOD) 073254 on Model AS350B3 helicopters and the installation of MOD 073773 on Model EC130B4 helicopters. Those actions were intended to prevent an unintended touchdown to the ground during a practice autorotation at a flight-idle power setting, damage to the helicopter, and injury to the occupants.

Actions Since AD 2010-21-07 Was Issued

Since we issued AD 2010-21-07, Amendment 39-16467 (75 FR 63052, October 14, 2010), Eurocopter designed MOD 074263 to address the unsafe condition, and we issued two letters approving MOD 074263 as an Alternate Method of Compliance for AD 2010-21-07. A subsequent accident occurred involving power loss in flight of a Model AS350B3 helicopter with MOD 074263 installed. As a result, Eurocopter revised its service information and the European Aviation Safety Agency (EASA), which is the Technical Agent for the Member States of the European Union, issued EASA Emergency AD No. 2013-0191-E, dated August 22, 2013. EASA advises the switches in the engine “IDLE” or “FLIGHT” control system could be affected by the corrosive effects of a salt-laden atmosphere, which could lead to engine power loss. EASA states that because these corrosive effects are not prevented by MOD 074263, it no longer considers MOD 074263 terminating action for the required repetitive maintenance actions.

This NPRM would retain the repetitive inspections in AD 2010-21-07 but would also include the additional inspection requirements in the Eurocopter service information. Also, since we issued AD 2010-21-07, Eurocopter France has changed its name to Airbus Helicopters. This NPRM reflects that change.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information

We reviewed one co-published Eurocopter Emergency Alert Service Bulletin (EASB) containing 3 numbers: No. 05.00.61, Revision 2, dated August 13, 2013, for Model AS350B3 helicopters; No. 05.00.41, Revision 1, dated August 13, 2013, for the non-FAA type-certificated Model AS550C3 helicopter; and No. 05A009, Revision 2, dated August 13, 2013, for Model EC130B4 helicopters. The EASB describes procedures for a functional check and installation of a protection for micro-contacts 53Ka, 53Kb, and 65K (IDLE/FLIGHT mode). EASA classified this EASB as mandatory and issued EASA Emergency AD No. 2013-0191-E, dated August 22, 2013, to ensure the continued airworthiness of these helicopters.

Proposed AD Requirements

This proposed AD would retain the inspection requirements of AD 2010-21-07 (78 FR 63052, October 14, 2010) but would also include additional requirements to inspect for proper operation of contactors 53Ka and 53Kb and the pilot and copilot throttle twist grip controls for proper functioning. This proposed AD would require the inspections to be done at intervals not to exceed 300 hours time-in-service (TIS), compared to the 600-hour TIS intervals required by AD 2010-21-07. Issuing this proposed AD would also invalidate the two letters dated December 19, 2012, and July 18, 2013, approving AMOCs for AD 2010-21-07.

Differences Between the Proposed AD and the EASA AD

This AD requires the inspections to be done at intervals not to exceed 300 hours TIS, and the EASA AD applies different intervals based on certain conditions.

Interim Action

We consider this AD interim action. The design approval holder is currently developing a modification that will address the unsafe condition identified in this proposed AD. Once this modification is developed, approved, and available, we might consider additional rulemaking.

Costs of Compliance

We estimate that this proposed AD would affect 517 helicopters of U.S. Registry.

We estimate that operators may incur the following costs in order to comply with this AD. The average labor rate is $85 per work hour. It would take about 4 work hours for the inspections and any necessary maintenance, for a total cost of $340 per helicopter and $175,780 for the U.S. fleet per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing Airworthiness Directive (AD) 2010-21-07, Amendment 39-16467 (75 FR 63052, October 14, 2010), and adding the following new AD:

Airbus Helicopters (Previously Eurocopter France) Helicopters: Docket No. FAA-2014-0498; Directorate Identifier 2013-SW-052-AD.

(a) Applicability

This AD applies to Model AS350B3 and EC130B4 helicopters, certificated in any category, with the ARRIEL 2B1 engine with the two-channel Full Authority Digital Engine Control (FADEC) and with new twist grip modification (MOD) 073254 for the Model AS350B3 helicopter or MOD 073773 for the Model EC130B4 helicopter, installed.

(b) Unsafe Condition

This AD defines the unsafe condition as failure of one of the two contactors, 53Ka or 53Kb, which can prevent switching from “IDLE” mode to “FLIGHT” mode during autorotation training making it impossible to recover from the practice autorotation and compelling the pilot to continue the autorotation to the ground. This condition could result in unintended touchdown to the ground at a flight-idle power setting during a practice autorotation, damage to the helicopter, and injury to occupants.

(c) Affected ADs

This AD supersedes AD 2010-21-07, Amendment 39-16467 (75 FR 63052, October 14, 2010).

(d) Comments Due Date

We must receive comments by September 29, 2014.

(e) Compliance

You are responsible for performing each action required by this AD within the specified compliance time unless it has already been accomplished prior to that time.

(f) Required Actions

Before the next practice autorotation or on or before 100 hours time-in-service (TIS), whichever occurs first, and thereafter at intervals not to exceed 300 hours TIS, inspect the wiring, perform an insulation test, inspect the pilot and copilot throttle twist grip controls, and test the pilot and copilot throttle twist grip controls for proper functioning by following the Accomplishment Instructions, paragraphs 3.B.1 through 3.B.6, of Eurocopter Emergency Alert Service Bulletin (EASB) No. 05.00.61, Revision 2, dated August 13, 2013, for Model AS350B3 helicopters or EASB No. 05A009, Revision 2, dated August 13, 2013, for Model EC130B4 helicopters, as appropriate for your model helicopter.

(g) Alternative Methods of Compliance (AMOCs)

(1) The Manager, Safety Management Group, FAA, may approve AMOCs for this AD. Send your proposal to: George Schwab, Aviation Safety Engineer, Safety Management Group, Rotorcraft Directorate, FAA, 2601 Meacham Blvd., Fort Worth, Texas 76137; telephone (817) 222-5110; email george.schwab@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

The subject of this AD is addressed in European Aviation Safety Agency (EASA) Emergency AD No. 2013-0191-E, dated August 22, 2013. You may view the EASA AD at http://www.regulations.gov in Docket No. FAA-2014-0498.

(i) Subject

Joint Aircraft Service Component (JASC) Code: 76 Engine Controls.

Issued in Fort Worth, Texas, on July 18, 2014.
S. Frances Cox,
Acting Directorate Manager, Rotorcraft Directorate, Aircraft Certification Service.

[FR Doc. 2014-17928 Filed 7-29-14; 8:45 am]

BILLING CODE 4910-13-P